NATIONAL ARCHIVES AND RECORDS ADMINISTRATION

Office of Government Information Services

[NARA-2018-036]

Notice of Open Meeting.

AGENCY: National Archives and Records Administration (NARA).

ACTION: Office of Government Information Services (OGIS) Annual Open Meeting.

SUMMARY: In accordance with the Freedom of Information Act, OGIS is conducting an open meeting during which we will discuss OGIS's reviews and reports and allow interested people from the public to present oral or written statements.

DATES: The meeting will be Friday, May 18, from 10:00 a.m. to 12:00 p.m. EDT. Please register for the meeting no later than 5:00 p.m. EDT on May 16, 2018.

Location: National Archives and Records Administration (NARA); 700 Pennsylvania Avenue NW; William G. McGowan Theater, Washington, DC 20408.

FOR FURTHER INFORMATION CONTACT: Amy Bennett, by mail at National Archives and Records Administration; Office of Government Information Services; 8601 Adelphi Road—OGIS; College Park, MD 20740-6001, by telephone at 202-741-5782, or by email at amy.bennett@nara.gov.

SUPPLEMENTARY INFORMATION: You can find summaries of OGIS's work in our Annual Reports. OGIS's Fiscal Year 2017 Annual Report was published during Sunshine Week (March 11-17, 2018).

Procedures: The meeting is open to the public. Due to access procedures, you must register in advance if you wish to attend the meeting. You will also go through security screening when you enter the building. Registration for the meeting will go live via Eventbrite on May 1, 2018, at 10:00 a.m. EDT. To register for the meeting, please do so at this Eventbrite link: https://www.eventbrite.com/e/office-of-government-information-services-annual-open-meeting-may-18-2018-registration-45255871530.

This program will be live-streamed on the U.S. National Archives' YouTube channel, https://www.youtube.com/user/usnationalarchives/playlists. The webcast will include a captioning option. To request additional accommodations (e.g., a transcript), email ogis@nara.gov or call 202-741-5770. Members of the media who wish to register, those who are unable to register online, and those who require special accommodations, should contact Amy Bennett at the phone number, mailing address, or email address listed above.

Alina M. Semo,
Director, Office of Government Information Services.

[FR Doc. 2018-08597 Filed 4-24-18; 8:45 am]

BILLING CODE 7515-01-P